DEPARTMENT OF HEALTH AND HUMAN SERVICES

Agency for Toxic Substances and Disease Registry

[CDC-2011-0014]

Correction for Draft Vieques Report: An Evaluation of Environmental, Biological, and Health Data From the Island of Vieques, PR

AGENCY: Agency for Toxic Substances and Disease Registry (ATSDR), Department of Health and Human Services (DHHS).

ACTION: General notice: correction.

SUMMARY: On December 12, 2011 the Agency for Toxic Substance and Disease Register published a 30-day public comment period notice in the Federal Register (76 FR 77234) for the Draft Vieques Report: An Evaluation of Environmental, Biological, and Health Data From the Island of Vieques, Puerto Rico.” This comment period was published as closing on January 11, 2012 in error. The comment period will be open for 90 days and will close March 11, 2012.

DATES: Written comments must be received on or before March 12, 2012.

Electronic comments may be sent via http://www.regulations.gov, docket control number CDC-2011-0014. Please follow the directions on the site to submit comments. Comments may also be sent to the attention of Rolanda Morrison, ATSDR Records Center, Mailstop F-09, 4770 Buford Highway NE., Atlanta, GA 30341. Send one copy of all comments and three copies of all supporting documents. Comments may also be submitted by email to ATSDRecordsCenter@cdc.gov. Please ensure docket control number CDC-2011-0014 is included in the subject line of all written correspondence. Because all public comments regarding this draft report are available for public inspection, no confidential business information or other confidential information should be submitted in response to this notice.

FOR FURTHER INFORMATION CONTACT: The Division of Health Assessment and Consultation, Agency for Toxic Substances and Disease Registry, Mailstop F-59, 1600 Clifton Road NE., Atlanta, Georgia 30333, email: viequesreport@cdc.gov.

SUPPLEMENTARY INFORMATION: This report's principal focus is to review updated environmental data on Vieques air, water, soil, seafood, and locally grown foods. In addition, this report evaluates human biomonitoring and health outcome data. ATSDR is providing a public comment period for this draft report as a means to best serve public health and the residents of Vieques, Puerto Rico. The Draft Vieques Report is available in English and Spanish at www.regulations.gov in the docket identified by Docket ID No. CDC-2011-0014 and www.atsdr.cdc.gov/sites/vieques/.

Dated: December 13, 2011.
Thomas Sinks,
Deputy Director, National Center for Environmental Health/Agency for Toxic Substances and Disease Registry.

[FR Doc. 2011-32371 Filed 12-16-11; 8:45 am]

BILLING CODE 4163-70-P